ENVIRONMENTAL PROTECTION AGENCY

[EPA-HQ-OPPT-2007-0572; FRL-8140-2]

Agency Information Collection Activities; Proposed Collection; Comment Request; Information Collection in Support of EPA's Stewardship Program for Nanoscale Materials; EPA ICR No. 2250.01, OMB Control No. 2070-new

AGENCY: Environmental Protection Agency (EPA).

ACTION: Notice.

SUMMARY: In compliance with the Paperwork Reduction Act (PRA) (44 U.S.C. 3501 et seq.), this document announces that EPA is planning to submit a request for a new Information Collection Request (ICR) to the Office of Management and Budget (OMB). Before submitting the ICR, entitled: “Information Collection in Support of EPA's Stewardship Program for Nanoscale Materials” and identified by EPA ICR No. 2250.01 and OMB Control No. 2070-new, to OMB for review and approval, EPA is soliciting public comments on specific aspects of the proposed information collection for this voluntary stewardship program for nanoscale materials. In a separate Federal Register document, EPA is announcing the availability for public review and comment of two draft documents: “Concept Paper for the Nanoscale Materials Stewardship Program under the Toxic Substances Control Act (TSCA)” and “TSCA Inventory Status of Nanoscale Substances—General Approach.”

DATES: Comments must be received on or before September 10, 2007.

ADDRESSES: Submit your comments, identified by docket identification (ID) number EPA-HQ-OPPT-2007-0572, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Delivery: OPPT Document Control Office (DCO), EPA East, Rm. 6428, 1201 Constitution Ave., NW., Washington, DC. Attention: Docket ID number EPA-HQ-OPPT-2007-0572. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2007-0572. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov web site to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Jim Alwood, Chemical Control Division (7405M), Environmental Protection Agency, 1200 Pennsylvania Ave., NW., Washington, DC 20460-0001; telephone number: (202) 564-8974; fax number: (202) 564-9490; e-mail address: alwood.jim@epa.gov.

SUPPLEMENTARY INFORMATION:

I. What Should I Consider as I Prepare My Comments for EPA?

A. Considerations Under the Paperwork Reduction Act

Pursuant to section 3506(c)(2)(A) of the PRA, EPA specifically solicits comments and information to enable it to:

1. Evaluate whether the proposed collection of information is necessary for the proper performance of the functions of the Agency, including whether the information will have practical utility. Guidance issued by OMB states that the term ”practical utility” refers to the usefulness of information (considering its accuracy, adequacy, and reliability) to carry out the Agency's functions in a timely manner.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

B. Tips for Preparing Your Comments

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Provide specific examples to illustrate your concerns.

6. Offer alternative ways to improve the collection activity.

7. Make sure to submit your comments by the deadline identified under DATES.

8. To ensure proper receipt by EPA, be sure to identify the docket ID number assigned to this action in the subject line on the first page of your response. You may also provide the name, date, and Federal Register citation.

C. Submitting CBI

Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

II. What Information Collection Activity or ICR Does this Action Apply to?

Affected entities: Entities potentially affected by this ICR are manufacturers, importers, and processors of nanoscale materials. Using the North American Industrial Classification System (NAICS) codes to assist you and others in determining whether this action might apply to certain entities, potentially affected entities may include, but are not limited to:

• Chemical manufacturers, importers, and processors (NAICS code 325), e.g., persons who manufacture (defined by TSCA to include import) or process chemical substances.

Title: Information Collection in Support of EPA's Stewardship Program for Nanoscale Materials.

ICR numbers: EPA ICR No. 2250.01, OMB Control No. 2070-new.

ICR status: This ICR is for a new information collection activity. An Agency may not conduct or sponsor, and a person is not required to respond to, a collection of information, unless it displays a currently valid OMB control number. After approval by OMB, the OMB control number for this ICR will be displayed by publication in the Federal Register and by the inclusion of the paperwork reduction notice in the optional form and instructions.

Abstract: EPA intends to initiate a voluntary information collection to assemble all known or reasonably ascertainable information from manufacturers, importers, and processors of nanoscale materials who are participating in the voluntary Stewardship Program for Nanoscale Materials. EPA also intends to collaborate with participating manufacturers, importers, and processors of nanoscale materials, and other stakeholders in an effort to generate more detailed information of certain specific nanoscale materials. Under this second effort OPPT and program participants will work together to generate data and analyses that will more fully characterize certain nanoscale materials and to increase understanding of the environmental health and safety implications of manufactured nanoscale materials.

This data collection will facilitate and support EPA's voluntary Stewardship Program for Nanoscale Materials and complement EPA's new and existing chemical programs under TSCA. These data will also help provide a firmer scientific foundation for regulatory decisions by encouraging the development of key scientific information and appropriate risk management practices for nanoscale chemical substances.

Burden statement: The annual public reporting and recordkeeping burden for this collection of information is estimated to average 833 hours per response. This estimate assumes that the response involves all potential activities in the Nanoscale Materials Stewardship Program described in the ICR. Not all participants in the Nanoscale Materials Stewardship Program are expected to participate in the “in-depth” component of the program. Under the PRA, “burden” means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the activities and estimated burden, which is only briefly summarized here:

Estimated total number of potential respondents: 615.

Frequency of response: On occasion.

Estimated total average number of annual responses for each respondent: 2.

Estimated total annual burden hours: 24,724 hours.

Estimated total annual costs: $1,271,240.

III. What is the Next Step in the Process for this ICR?

EPA will consider the comments received and amend the ICR as appropriate. Although included as attachments to the ICR, EPA is issuing a separate Federal Register document to solicit public review and comments on two draft documents: “Concept Paper for the Nanoscale Materials Stewardship Program under TSCA” and “TSCA Inventory Status of Nanoscale Substances—General Approach.” In addition to considering comments submitted on the ICR, EPA will also consider public comments received on these two documents.

The final ICR package, including the revised attachments, will then be submitted to OMB for review and approval pursuant to 5 CFR 1320.12. At that time, EPA will issue another Federal Register notice pursuant to 5 CFR 1320.5(a)(1)(iv) to announce the submission of the ICR to OMB and the opportunity to submit additional comments to OMB.

If you have any questions about this ICR or the process, please contact the person listed under FOR FURTHER INFORMATION CONTACT.

List of Subjects

Environmental protection, Reporting and recordkeeping requirements.

Dated: July 9, 2007.
James Jones,
Acting Assistant Administrator, Office of Prevention, Pesticides and Toxic Substances.

[FR Doc. E7-13559 Filed 7-11-07; 8:45 am]

BILLING CODE 6560-50-S